DEPARTMENT OF THE INTERIOR

Bureau of Land Management

[LLWYD010000-L13110000-EJ0000]

Notice of Intent To Prepare an Environmental Impact Statement for the Proposed Normally Pressured Lance Natural Gas Development Project, Sublette County, WY

AGENCY: Bureau of Land Management, Interior.

ACTION: Notice of intent.

SUMMARY: In compliance with the National Environmental Policy Act (NEPA) of 1969, as amended, and the Federal Land Policy and Management Act (FLPMA) of 1976, as amended, the Bureau of Land Management (BLM) Pinedale Field Office (PFO), Pinedale, Wyoming, and the BLM Rock Springs Field Office (RSFO), Rock Springs, Wyoming, intend to prepare an Environmental Impact Statement (EIS) for the Normally Pressured Lance (NPL) Natural Gas Development Project and by this notice are announcing the beginning of the scoping process to solicit public comments and identify issues.

DATES: This notice initiates the public scoping process for the EIS. Comments on issues may be submitted in writing until May 12, 2011. The dates and locations of any scoping meetings will be announced at least 15 days in advance through local news media outlets and through the BLM Web site at: http://www.blm.gov/wy/st/en/info/NEPA/pfodocs/npl.html. In order to be included in the Draft EIS, all comments must be received prior to the close of the scoping period or 15 days after the last public meeting, whichever is later. Additional opportunities for public participation will be provided on publication of the Draft EIS.

ADDRESSES: You may submit comments related to the NPL Natural Gas Development Project by any of the following methods:

• E-mail: NPL_EIS_WY@blm.gov;

• Mail: P.O. Box 768, Pinedale, WY 82941; or

• Hand delivery: 1625 W. Pine Street, Pinedale, Wyoming.

Before including your address, phone number, e-mail address, or other personal identifying information in your comment, you should be aware that your entire comment—including your personal identifying information—may be made publicly available at any time. While you may ask us in your comment to withhold your personal identifying information from public review, we cannot guarantee that we will be able to do so.

FOR FURTHER INFORMATION CONTACT: Kellie Roadifer, Planning and Environmental Coordinator, Pinedale Field Office, 1625 W. Pine Street, P.O. Box 768, Pinedale, Wyoming 82941; 307-367-5309; Kellie_Roadifer@blm.gov. Documents pertinent to this proposal may be examined at the Pinedale Field Office and will be posted online at http://www.blm.gov/wy/st/en/info/NEPA/pfodocs/npl.html.

SUPPLEMENTARY INFORMATION: The NPL encompasses an area of 141,080 acres located immediately south and west of the existing Jonah Infill Natural Gas Field. It is located within the BLM PFO and RSFO, High Desert District, in Sublette County, Wyoming. EnCana Oil & Gas (USA) Inc. (EnCana) currently owns leasehold interests on more than 70 percent of this area and proposes to develop up to 3,500 wells ranging from a depth of 6,500 to 13,500 feet and based on a maximum of 64 wells per 640-acre section of land. These wells are projected to be drilled over a 10-year period to produce gas from the NPL pool. To minimize surface disturbance, wells would be directionally drilled from up to four 18-acre multi-well pad locations per 640-acre section of land. Approximately 10 natural gas drilling rigs would be used. Only drilling muds and cement mixed with fresh water would be used to drill and case through surface water aquifers. About 25,000 barrels of recycled water would be used to drill the majority of each well. Well completion operations would be conducted using EnCana's flare-less flow-back technology to eliminate or reduce emissions and flow-back water would be recycled for a “net-zero” water balance.

In order to minimize air emissions and surface disturbance, a three-phase pipeline gathering system would transport gas, condensate and produced-water to a minimal number of central collection facilities. Pipelines for the gathering system would parallel roads whenever possible and be buried deep enough to avoid freezing conditions. Electric compression would be used to minimize air impacts. Access roads and production infrastructure would be co-located wherever possible. Only a minimum number of access roads and equipment areas needed for on-going production, operation and maintenance activities would be maintained. Remote telemetry technology would reduce truck traffic associated with well servicing. Well pad locations would be constructed so that disturbed areas and haul road distances would be minimized. Topsoil would be conserved for subsequent reclamation. Reclamation efforts would commence as soon as each well pad location is completed and production equipment is operational in accordance with Onshore Order Number 1. Initial surface disturbance is estimated to be 5,429 acres or 3.85 percent of the total NPL area. After reclamation, an estimated 1,411 acres or 1.0 percent of the NPL area would remain in use for production purposes for the life of the gas field.

The purpose of the public scoping process is to determine relevant issues that will influence the scope of the environmental analysis, including alternatives, and guide the process for developing the EIS. At present, the BLM has identified the following potential issues:

• Increased traffic and associated impacts on existing county, state, and BLM roads;

• Socioeconomic impacts to local communities;

• Impacts to surface water and groundwater resources, including floodplains;

• Air quality impacts from emissions resulting from drilling and production activities;

• Impacts related to reclamation of disturbed areas and control of invasive plants;

• Conflicts with livestock management operations in the Project Area;

• Impacts to cultural, historical, and paleontological resources within the Project Area;

• Impacts to wildlife habitats and populations within the Project Area, including big game, raptors, and sage-grouse;

• Impacts to threatened, endangered, or candidate plant and animal species, including potential Green River water depletions and effects on downstream listed fish species;

• Impacts to lands with wilderness characteristics;

• Cumulative effects of drilling and development activities when combined with other ongoing and proposed developments; and

• Conflicts between mineral development activities and recreational opportunities.

The BLM will utilize and coordinate the NEPA public comment process to comply with section 106 of the National Historic Preservation Act (16 U.S.C. 470f) as provided for in 36 CFR 800.2(d)(3). Native American tribal consultations will be conducted in accordance with BLM policy and sites of religious or cultural significance or other tribal concerns will be given due consideration. An updated inventory of lands with wilderness characteristics will be utilized to comply with Secretarial Order 3310. Federal, State, and local agencies, along with other stakeholders interested in or affected by the BLM's decision on this project are invited to participate in the scoping process and, if eligible, may request or be requested by the BLM to participate as a cooperating agency.

Authority: 40 CFR 1501.7

Donald A. Simpson,
State Director.

[FR Doc. 2011-8687 Filed 4-11-11; 8:45 am]

BILLING CODE 4310-22-P